DEPARTMENT OF AGRICULTURE

Agricultural Marketing Service

7 CFR Part 983

[Doc. No. AMS-FV-10-0077; FV10-983-3 CR]

Pistachios Grown in California, Arizona, and New Mexico; Continuance Referendum

AGENCY: Agricultural Marketing Service, USDA.

ACTION: Referendum order.

SUMMARY: This document directs that a referendum be conducted among eligible California, Arizona, and New Mexico pistachio producers to determine whether they favor continuance of the marketing order regulating the handling of pistachios grown in California, Arizona, and New Mexico.

DATES: The referendum will be conducted from November 1 through November 20, 2010. To vote in this referendum, producers must have produced pistachios in California, Arizona, or New Mexico during the period September 1, 2009, through August 31, 2010.

ADDRESSES: Copies of the marketing order may be obtained from the California Marketing Field Office, Marketing Order Administration Branch, Fruit and Vegetable Division, AMS, U.S. Department of Agriculture, 2202 Monterey Street, Suite 102B, Fresno, California, 93721-3129, or the Office of the Docket Clerk, Marketing Order Administration Branch, Fruit and Vegetable Programs, AMS, USDA, 1400 Independence Avenue, SW., STOP 0237, Washington, DC 20250-0237.

FOR FURTHER INFORMATION CONTACT: Andrea Ricci, Marketing Specialist, or Kurt J. Kimmel, Regional Manager, California Marketing Field Office, Marketing Order Administration Branch, Fruit and Vegetable Programs, AMS, USDA; Telephone: (559) 487-5901, Fax: (559) 487-5906, or E-mail: Andrea.Ricci@ams.usda.gov or Kurt.Kimmel@ams.usda.gov, respectively.

SUPPLEMENTARY INFORMATION: Pursuant to Marketing Order No. 983 (7 CFR part 983), hereinafter referred to as the “order,” and the applicable provisions of the Agricultural Marketing Agreement Act of 1937, as amended (7 U.S.C. 601-674), hereinafter referred to as the “Act,” it is hereby directed that a referendum be conducted to ascertain whether continuance of the order is favored by producers. The referendum shall be conducted from November 1 through November 20, 2010, among eligible California, Arizona, and New Mexico pistachio producers. Only producers that were engaged in the production of pistachios in California, Arizona, or New Mexico during the period of September 1, 2009, through August 31, 2010, may participate in the continuance referendum.

USDA has determined that continuance referenda are an effective means for determining whether producers favor the continuation of marketing order programs. USDA would consider termination of the order if less than two-thirds of the producers voting in the referendum or producers of less than two-thirds of the volume of California, Arizona, and New Mexico pistachios represented in the referendum favor continuance of their program. In evaluating the merits of continuance versus termination, USDA will consider the results of the continuance referendum and other relevant information regarding operation of the order. USDA will evaluate the order's relative benefits and disadvantages to producers, handlers, and consumers to determine whether continuing the order would tend to effectuate the declared policy of the Act.

In accordance with the Paperwork Reduction Act of 1995 (44 U.S.C. Chapter 35), the ballot materials used in the referendum herein ordered have been approved by the Office of Management and Budget (OMB), under OMB No. 0581-0215, Pistachios Grown in California, Arizona and New Mexico. It has been estimated that it will take an average of 20 minutes for each of the approximately 840 producers of California, Arizona, and New Mexico pistachios to cast a ballot. Participation is voluntary. Ballots postmarked after November 20, 2010, will not be included in the vote tabulation.

Andrea Ricci and Kurt J. Kimmel of the California Marketing Field Office, Fruit and Vegetable Programs, AMS, USDA, are hereby designated as the referendum agents of the Secretary of Agriculture to conduct this referendum. The procedure applicable to the referendum shall be the “Procedure for the Conduct of Referenda in Connection With Marketing Orders for Fruits, Vegetables, and Nuts Pursuant to the Agricultural Marketing Agreement Act of 1937, as Amended” (7 CFR 900.400-900.407).

Ballots will be mailed to all producers of record and may also be obtained from the referendum agents or from their appointees.

List of Subjects in 7 CFR Part 983

Marketing agreements and orders, Pistachios, Reporting and recordkeeping requirements.

Authority: 7 U.S.C. 601-674.

Dated: October 14, 2010.
David R. Shipman,
Acting Administrator.

[FR Doc. 2010-26333 Filed 10-19-10; 8:45 am]

BILLING CODE 3410-02-P